Title 3—

The President

Proclamation 9915 of August 16, 2019

National Employer Support of the Guard and Reserve Week, 2019

By the President of the United States of America

A Proclamation

Our great Nation's hard-fought independence was won by citizen warriors united in purpose and possessing an unwavering commitment to liberty. On countless occasions since, our citizen Soldiers, Sailors, Airmen, Marines, and Coast Guardsmen have put their civilian lives on hold—leaving behind family, friends, and vocation—to defend freedom and the rights of all Americans. During National Employer Support of the Guard and Reserve Week, we salute the many civilian employers who recognize the indispensable role of our all-volunteer force and provide unwavering support to our Nation's defenders.

The men and women of the National Guard and Reserve make significant contributions to both our thriving economy and our strong national defense. In all facets of the civilian workforce, from small businesses to large corporations, they bring to bear considerable expertise, experience, and professionalism. In uniform, they serve with honor and distinction as they respond to natural disasters and emergencies, train to ensure operational readiness, and deploy in support of critical operations.

Employers who support the National Guard and Reserve are essential to the Nation's ability to sustain an all-volunteer force. Their flexibility, generosity, and understanding enable reserve component service members to maintain meaningful and successful civilian careers while serving their country. Regardless of financial hardship or inconvenience, these patriotic employers provide job security when employees answer the call of duty, as well as encouragement and stability to their families during times of deployment. In choosing service over self-interest, these employers share in the mission of protecting our democratic principles and our Nation's well-being.

Ensuring that our brave military members have the resources they need to thrive in both military and civilian life is one of my highest priorities. I commend employers who hold in high regard our National Guard and Reserve service members and their families, and who provide exemplary cooperation and partnership, often at great financial sacrifice, to Americans who nobly combine military and civilian careers. We extend our gratitude to these employers and to all who willingly serve and sacrifice to defend and preserve our way of life.

NOW, THEREFORE, I, DONALD J. TRUMP, President of the United States of America, by virtue of the authority vested in me by the Constitution and the laws of the United States, do hereby proclaim August 18 through August 24, 2019, as National Employer Support of the Guard and Reserve Week. I call upon all Americans to join me in expressing our heartfelt thanks to the civilian employers who provide critical support to the men and women of the National Guard and Reserve. I also call on State and local officials, private organizations, and all military commanders to observe this week with appropriate ceremonies and activities.

IN WITNESS WHEREOF, I have hereunto set my hand this sixteenth day of August, in the year of our Lord two thousand nineteen, and of the Independence of the United States of America the two hundred and forty-fourth.

[FR Doc. 2019-18138

Filed 8-20-19; 8:45 am]

Billing code 3295-F9-P